DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 6, 2002.

Interested persons are invited to submit written comments regarding the subject matter of the investigations to the Director, Division of Trade Adjustment Assistance, at the address shown below, not later than May 6, 2003.

The petitions filed in this case are available for inspection at the Office of the Director, Division of Trade Adjustment Assistance, Employment and Training Administration, U.S. Department of Labor, Room C-5311, 200 Constitution Avenue, NW., Washington, DC 20210.

Signed at Washington, DC, this 4th day of March, 2002.
Edward A. Tomchick,
Director, Division of Trade Adjustment Assistance.

Appendix
[Petitions Instituted on 03/04/2002]
TA-W | Subject Firm (Petitioners) | Location | Date of petition | Product(s)
40,873 | Genalite Corp (Wrks) | Jessup, PA | 01/18/2002 | Christmas Trees.
40,874 | 3M Corp (Comp) | Bedford Park, IL | 01/25/2002 | Pressure Sensitive Tape.
40,875 | Graham Tech, Inc. (Comp) | Cochranton, PA | 11/26/2002 | Tool Maker.
40,876 | Springfield Precision (Wrks) | Woodridge, NJ | 10/25/2002 | Thermometers, Timers and Barometers.
40,877 | ESP/Jocassee Trading Co (Comp) | Easley, SC | 09/24/2001 | Sheetsets comforters and pillows.
40,878 | JTD, Inc. (Comp) | Tigard, OR | 08/09/2001 | Cast Molds.
40,879 | Sheldahl Northfield (Wrks) | Northfield, MN | 10/31/2001 | Flexible Circurity.
40,880 | Madill Equipment (Wrks) | Eugene, OR | 11/27/2001 | Yarders Loaders Limbers Logs.
40,881 | Choctaw Electronics (Wrks) | Philadelphia, MS | 10/05/2001 | Car speakers.
40,882 | Bassett Mirror Co (Wrks) | Bassett, | 10/29/2001 | Bassett Mirrors Occasional Tables.
40,883 | Iomega Corp (Wrks) | Roy, UT | 10/23/2002 | Zip Drives Jaz Drives.
40,884 | Tracy Minntronix Corp (Wrks) | Tracy, MN | 01/29/2002 | Magnetic Transformers and Components.
40,885 | O.P. Schuman & Sons, Inc (MT&D) | Warrington, PA | 11/12/2001 | Lycra.
40,886 | Otis Elevator Co (IUE) | Bloomington, IN | 11/27/2001 | Elevators.
40,887 | Spicer Driveshaft (Comp) | Lima, OH | 11/28/2001 | Companion Flanges for Automobiles.
40,888 | Carling Technologies (Wrks) | Brownsville, TX | 10/18/2001 | Switches and Magnetic Circuit Breakers.
40,889 | Nordic Delight/Maine (Comp) | Lubec, ME | 11/08/2001 | Salmon.
40,890 | Hutchinson Technology (Wrks) | Hutchinson, MN | 10/12/2001 | Suspension Assemblies—Disk Drives.
40,891 | Von Hoffman Press (Wrks) | Owensville, MO | 11/06/2001 | Educational Textbook.
40,892 | JDS Uniphase (Wrks) | Bloomfield, CT | 01/25/2002 | SN Switch Products.
40,893 | Danbury Fabrics Ltd (Comp) | Ridgewood, NY | 10/25/2001 | Knitting Cloth—Apparel.
40,894 | Detroit Tool and Engineer (Wrks) | Lebanon, MO | 11/08/2001 | Automatic Manuf. Equipment Machines.
40,895 | Ushio Oregon, Inc. (Comp) | Newberg, OR | 10/22/2001 | High tech halogen lamps.
40,896 | Them's Fine Apparel (Comp) | Bethel Springs, TN | 09/06/2001 | Hospital Apparel.
40,897 | National Steel Pellet (USWA) | Keewatin, MN | 10/29/2002 | Tacunite Pellets.
40,898 | St. Clair Technologies (Wrks | Charlotte, MI | 11/02/2001 | Wiring Harnesses.
40,899 | E.J. Footwear (Wrks) | Blairsville, GA | 10/24/2001 | Work and Occupational Footwear.
40,900 | Holland Binkley Co (Comp) | Delphos, OH | 11/03/2001 | Semi-trailer Axle & Break System.
40,901 | Integrated Logistics (Wrks) | New Hyde Park, NY | 09/25/2001 | Fasteners.
40,902 | Forecaster of Boston (UNITE) | New Bedford, MA | 10/15/2001 | Ladies Winter Coat.
40,903 | Monona Wire Corp (Comp) | Livingston, WI | 12/19/2001 | Wire Harness Assemblies.
40,904 | ANR Pipeline Co (Wrks) | Detroit, MI | 11/29/2001 | Pipe Transportation—Natural Gas.
40,905 | Coastal Lumber Co (Wrks) | Dailey, WV | 12/14/2001 | Wood Products.
40,906A | Quark Enterprise Systems (Wrks) | Downers Grove, IL | 12/11/2001 | Software Development.
40,906 | Quark, Inc. (Wrks) | Denver, CO | 12/11/2001 | Software Development.
40,907 | Pak-Mor Manufacturing Co (Wrks) | San Antonio, TX | 12/20/2001 | Truck Bodies and Components.
40,908 | Tumi, Inc. (Comp) | Vidalia, GA | 01/29/2002 | Luggages, Business Cases and Accessories.
40,909 | Bowater Coosa Pines (PACE) | Coosa Pines, AL | 12/03/2001 | Pulp & Paper.
40,910 | Stein Steel Mills Service (USWA) | Broadview Hghts, OH | 12/28/2001 | Steel.
40,911 | Rhodia, Inc. (Comp) | New Brunswick, NJ | 12/12/2001 | Coumarin and Salicyladehyde.
40,912 | Kennametal Industrial (Comp) | Pine Bluff, AR | 12/07/2001 | Drill Bits.
40,913 | Emsig Manufacturing Corp (UNITE) | Hudson, NY | 12/21/2001 | Plastic Buttons.
40,914 | Harsco Track Technologies (UAW) | Ludington, MI | 12/21/2001 | China Grinder.
40,915 | Trend Technologies (Wrks) | Round Rock, TX | 12/30/2001 | Hardware for Computers.
40,916 | EDS (Wkrs) | Camp Hill, PA | 12/24/2001 | Ixplus Customer Care Software.
40,917 | Hunter Sadler (Comp) | Tupelo, MS | 12/13/2001 | Men's Suits.
40,918 | Goldman Industrial Group (UE) | N. Springfield, VT | 01/21/2002 | Machine Tools.
40,919 | Sovereign Specialty (Wrks) | Ewing, NJ | 12/06/2001 | Adhesives.
40,920 | Honeywell International (Wrks) | Elyria, OH | 12/21/2001 | Truck Brakes.
40,921 | Gulf Fibers, Inc. (Comp) | Axis, AL | 12/18/2001 | 15 Denier Mono Filament Nylon.
40,922 | Emerson Electric Co. (Comp) | Hazlehurst, GA | 12/17/2001 | Refrigeration Filter Driers.
40,923 | Tele Cruz Technology (Wrks) | San Jose, CA | 01/31/2002 | Electronic Componets.
40,924 | MCMS, Inc. (Comp) | Durham, NC | 12/26/2002 | Printed Circuits.
40,925 | BH Electronics (Wrks) | Marshall, MN | 01/29/2002 | Transformer & Electronic Componets.
40,926 | EVTAC Mining LLC (USWA) | Eveleth, MN | 01/09/2002 | Mine and Process Taconite.
40,927 | Teleflex, Inc. (UAW) | Waterbury, CT | 01/02/2002 | Automative Cables.
40,928 | Ramtex, Inc. (Comp) | Ramseur, NC | 01/18/2002 | Spin & Weave Yarn.
40,929 | Loranger Manufacturing (Comp) | Warren, PA | 01/15/2002 | Molded Connectors and Metal Inserts.
40,930 | Prudential Steel, Inc. (Wrks) | Longview, WA | 02/25/2002 | Welded Steel Tubular Goods, Line Pipe.
40,931 | Cone Blanchard Corp. (UE) | Windsor, VT | 01/24/2002 | Machine Tools.
40,932 | Allegro Microsystems (Wrks) | Willow Grove PA | 01/24/2002 | Integrated Circuits.
40,933 | Oxford Slacks (Comp) | Monroe, GA | 01/29/2002 | Men's Slacks.
40,934 | Tyco Electronics (Wrks) | Jacobus, PA | 01/24/2002 | Electrical Connectors.
40,935 | Nice Ball Bearing Co (USWA) | Kulpsville, PA | 01/22/2002 | Ground Ball Bearings.
40,936 | LTV Steel Corp. (Wrks) | Grand River, OH | 01/28/2002 | Lime Pebbles.
40,937 | IBM Corp. (Wrks) | Rochester, MN | 01/21/2002 | Glass Substrates
40,938 | Marathon Electric (Wrks) | West Plains, MO | 01/24/2002 | Electric Motors.
40,939 | P.S.W. Industries Inc. (Wrks) | Chicago, IL | 01/11/2002 | Magnetc Lamanations.
40,940 | Trinity Rail Operations (BRC) | Clinton, IL | 01/31/2002 | Rail Chips.
40,941 | Wheland Automotive (Comp) | Warrenton, GA | 01/14/2002 | Gray Iron Casting for Braking System.
40,942 | Biltrite Corp. (The) (Comp) | Ripley, MS | 01/24/2002 | Shoe Soles and Heels.
40,943 | Ormet Mill Products (Wrks) | Jackson, TN | 01/14/2002 | Light Guage/Aluminum Foil.
40,944 | Zeeland Chemical (Wrks) | Zeeland, MI | 01/16/2002 | Chemicals.
40,945 | Barry of Laredo (Comp) | Laredo, TX | 01/28/2002 | Slippers.
40,946 | KBA North America, Inc. (Wrks) | York, PA | 01/28/2002 | Painting Presses/Related Equipment.
40,947 | BASF Corp. (Wrks) | Wyandotte, MI | 01/14/2002 | Vitamin E Powder.
40,948 | Boero, Inc. (Comp) | Oakland, CA | 01/29/2002 | Ladies' Sportswear.
40,949 | DuPont—Beaumont Works (Wrks) | Beaumont, TX | 01/14/2002 | Ammonia.
40,950 | Opton, Inc. (Wrks) | Newport News, VA | 01/29/2002 | Glass/Mirrow.
40,951 | Geschmay Corp. (Comp) | Greenville, SC | 01/28/2002 | Paper.

[FR Doc. 02-10057 Filed 4-23-02; 8:45 am]

BILLING CODE 4510-30-M